ENVIRONMENTAL PROTECTION AGENCY

[FRL-7669-5]

Clean Air Act Advisory Committee (CAAAC) Notice of Meeting/Request for Nominations to the CAAAC

AGENCY: Environmental Protection Agency.

ACTION: Notice.

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

Open Meeting Notice: Pursuant to 5 U.S.C. App. 2 Section 10 (a)(2), notice is hereby given that the Clean Air Act Advisory Committee will hold its next open meeting on Thursday, June 24, 2004, from approximately 8:30 a.m. to 3:30 p.m. at the Renaissance Mayflower Hotel, 1127 Connecticut Avenue, NW., Washington, DC. Seating will be available on a first come, first served basis. The Economics Incentives and Regulatory Innovations Subcommittee and a CAAAC workgroup addressing the National Academy of Science Report on Air Quality Management will hold meetings on Wednesday, June 23, 2003 from approximately 8:30 a.m to 3:30 p.m. at the Renaissance Mayflower, the same location as the full Committee. The Permits, New Source Reviews and Toxics Subcommittee will be having a public meeting of the Title V Task Force on June 25, 2004. The location of the meeting will be at the Washington Marriott Hotel 1221 22nd Street NW., Washington DC from approximately 9 a.m. to 5 p.m. Seating will be available on a first come, first served basis. Two of the CAAAC's Subcommittees, the Linking Energy, Land Use, Transportation, and Air Quality Concerns Subcommittee; and the Mobile Source Technical Review Panel will not meet at this time. The schedule for the Wednesday meetings is: The NAS workgroup will meet at 8:30 a.m. to 12:30 am, and the subcommittee on Economics Incentives and Regulatory Innovations will meet at 1:30 p.m. to 3:30 p.m.

Request for Nominations: The U.S. Environmental Protection Agency (EPA) invites nominations of qualified candidates to be considered for appointments to the Clean Air Act Advisory Committee and its subcommittees. Suggested deadline for receiving nominations is July 16, 2004. Appointments will be made by the Administrator of the Environmental Protection Agency. Appointments for the full CAAAC committee are expected to be announced during November of 2004. Nominee's qualifications will be assessed under the mandates of the Federal Advisory Committee Act, which requires Committees to maintain diversity across a broad range of constituencies, sectors, and groups. Nominations for membership must include a resume describing the professional and educational qualifications of the nominee as well as community-based experience. Contact details should include full name and title, business mailing address, telephone, fax, and e-mail address. A supporting letter of endorsement is encouraged but not required.

ADDRESSES: Submit nomination materials to: Pat Childers, Designated Federal Officer, Clean Air Act Advisory Committee, U.S. EPA (6102A) 1200 Pennsylvania Ave, Washington, DC 20004, T: 202 564-1082, F: 202 564-1352, e-mail childers.pat@epa.gov.

Inspection of Committee Documents: The Committee agenda and any documents prepared for the meeting will be publicly available at the meeting. Thereafter, these documents, together with CAAAC meeting minutes, will be available by contacting the Office of Air and Radiation Docket and requesting information under docket item A-94-34 (CAAAC). The Docket office can be reached by telephoning 202-260-7548; FAX 202-260-4400.

FOR FURTHER INFORMATION CONTACT: For further information concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittee meetings, please contact the following individuals: (1) Permits/NSR/Toxics Integration—Debbie Stackhouse, 919-541-5354; and (2) Linking Transportation, Land Use and Air Quality Concerns—Robert Larson, 734-214-4277; and (3) Economic Incentives and Regulatory Innovations—Carey Fitzmaurice, 202-564-1667. Additional Information on these meetings, CAAAC and its Subcommittees can be found on the CAAAC Web site: http://www.epa.gov/oar/caaac/.

Dated: May 26, 2004.
Elizabeth Craig,
Acting Principal Deputy Assistant Administrator for Air and Radiation.

[FR Doc. 04-12415 Filed 6-1-04; 8:45 am]

BILLING CODE 6560-50-P